DEPARTMENT OF AGRICULTURE

Forest Service

Main Boulder Fuels Reduction Project, Big Timber Ranger District, Gallatin National Forest, Park and Sweet Grass Counties, MT

AGENCY: Forest Service, USDA.

ACTION: Notice of intent to prepare a Supplemental Environmental Impact Statement.

SUMMARY: The USDA, Forest Service is releasing a Supplemental Environmental Impact Statement (SEIS) to further address the environmental effects that the Main Boulder Fuels Reduction Project would have on the northern goshawk. This is a hazardous fuels reduction project consisting of approximately 2500 acres of overstory and understory canopy thinning, prescribed burning, and aspen stimulation.

DATES: The Supplemental Draft Environmental Impact Statement is expected May of 2005 and the Supplemental Final Environmental Impact Statement and Record of Decision are expected August of 2005.

ADDRESSES: Written correspondence should be sent to Bill Avey, District Ranger, Big Timber Ranger District, P.O. Box 1130, Big Timber, MT 59011-1130. Copies of the Main Boulder Fuels Reduction SEIS will be available at the Big Timber Ranger District Office, 225 Big Timber Loop Road, Big Timber, MT and the Bozeman Ranger District Office, 3710 Fallon Street, Bozeman, MT. Electronic copies will also available on the Internet at http://www.fs.fed.us/r1/gallatin in the Projects and Plans area.

FOR FURTHER INFORMATION CONTACT: Bill Avey, District Ranger or Brent Foster, ID Team Leader, Big Timber Ranger District at (406) 932-5155 or Barbara Ping, Co-ID Team Leader, Bozeman Ranger District at (406) 522-2558 (see addresses above).

SUPPLEMENTARY INFORMATION:

Purpose and Need for Action

The purpose and need of the project is to provide for public and firefighter safety by minimizing the probability and effects of future fire starts in the wildland/urban interface of the Main Boulder River Corridor, to extend the potential time available for evacuation in the event of a wildfire by reducing the fire hazard along the Main Boulder Road, and to reduce fuel loadings by breaking up the vertical and horizontal fuel composition in the corridor, wherever possible.

Proposed Action

Stand density reduction, utilizing ground based harvest equipment, would occur on approximately 1060 acres on slopes up to 35%. Approximately 1040 acres on slopes >35% would be treated with other specialized methods or hand-treatments. A minimum of 15 to 20% of each unit would be left untreated to provide diversity across the landscape. In addition to reducing surface fuel loading by commercial thinning and salvage, small diameter fuel reduction, understory and/or pile burning would occur. Conifers would be slashed and prescribed burning would occur on approximately 400 acres of meadow-type habitats. Aspen clones would have conifers removed within a 100 foot radius to encourage aspen regeneration. A maximum of 7.4 miles of temporary road may be constructed to access the areas proposed for mechanical fuels treatment. No permanent roads would be constructed.

Alternatives

Alternatives that were considered in detailed study include the No Action Alternative and the Proposed Action Alternative. Seven other alternatives were considered, but did not merit detailed analysis or further consideration in the process.

Responsible Official

Rebecca Heath, Forest Supervisor, Gallatin National Forest, P.O. Box 130, 10 East Babcock, Bozeman, MT 59011.

Nature of Decision To Be Made

The scope of actions in the decision are limited to stand density reduction and the reduction of downed fuel loadings on National Forest Land including the thinning of large diameter conifers, removal of insect or disease damaged/killed conifers, cutting of small diameter conifers, slashing of conifers encroaching into meadow or aspen stands, prescribed burning of meadow areas, underburning of some treated stands, piling and removal or burning of downed woody materials resulting from treatment actions.

Scoping Process

Collaboration with the public has been an important part of the project. The proposal was developed with input from adjacent private landowners,the local watershed association, and numerous state, county, and local officals and groups. More than 20 meetings have been held providing information and updates pertaining to the project. Numerous field trips to the project area have been conducted involving various individuals, agencies and organizations. In December 2002, a formal scoping letter was sent to interested parties. The DEIS was released for public comment in July of 2004 followed by a 45 day review and comment period. In January of 2005 the FEIS and ROD were released and a 45 day appeal filing period began. Three appeals were received and subsequently the decision was reversed to update and clarify the analysis to better address the impacts to northern goshawk.

Preliminary Issues

Key issues that were identified include the possible negative environmental effects to water quality, fisheries, scenery, wildlife, recreation, and air quality. Key issues also included the threat of fuel accumulation and the potential for increasing the risk of noxious weed spread.

Comment Requested

The Draft Supplemental EIS is expected to be filed with the Environmental Protection Agency (EPA) and available for public review in May 2005. At that time EPA will publish a Notice of Availability (NOA) of the Draft Supplemental EIS in the Federal Register. The comment period on the Draft Supplemental EIS will be 45 days from the publication date of the NOA. A Supplemental Final Environmental Impact Statement and new Record of Decision will then be prepared.

Early Notice of the Importance of Public Participation in Subsequent Environmental Review

A Supplemental Draft Environmental Impact Statement will be prepared for comment. The comment period on the Supplemental Draft Environmental Impact Statement will be 45 days from the date the Environmental Protection Agency publishes the notice of availability in the Federal Register.

The Forest Service believes, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the Supplemental Draft Environmental Impact Statement should be as specific as possible. It is also helpful if comments refer to specific pages or chapters of the Draft Statement. Comments may also address the adequacy of the Supplemental Draft Environmental Impact Statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: April 21, 2005.
Rebecca Heath,
Forest Supervisor.

[FR Doc. 05-8483 Filed 4-27-05; 8:45 am]

BILLING CODE 3410-11-P